DEPARTMENT OF COMMERCE

Foreign-Trade Zones Board

[B-05-2015]

Foreign-Trade Zone (FTZ) 41—Milwaukee, Wisconsin; Authorization of Production Activity: CNH Industrial America, LLC; Subzone 41I (4-Wheel Drive Axle Subassemblies), Racine, Wisconsin

On January 20, 2015, CNH Industrial America, LLC, submitted a notification of proposed production activity to the Foreign-Trade Zones (FTZ) Board for its facility within Subzone 41I, in Racine, Wisconsin.

The notification was processed in accordance with the regulations of the FTZ Board (15 CFR part 400), including notice in the Federal Register inviting public comment (80 FR 6040, 02-04-2015). The FTZ Board has determined that no further review of the activity is warranted at this time. The production activity described in the notification is authorized, subject to the FTZ Act and the Board's regulations, including Section 400.14.

Dated: May 20, 2015.
Andrew McGilvray,
Executive Secretary.

[FR Doc. 2015-13033 Filed 5-28-15; 8:45 am]

BILLING CODE 3510-DS-P